DEPARTMENT OF THE INTERIOR

Fish and Wildlife Service

Proposed Programmatic Statewide Red-cockaded Woodpecker Safe Harbor Agreement, Florida

AGENCY: Fish and Wildlife Service, Interior.

ACTION: Notice of permit application.

SUMMARY: The Florida Fish and Wildlife Conservation Commission (FFWC or Applicant) has applied to the Fish and Wildlife Service (Service) for an enhancement of survival permit (ESP) pursuant to section 10(a)(1)(A) of the Endangered Species Act of 1973, as amended (Act) (16 U.S.C. 1531 et seq.). The ESP application includes a proposed Safe Harbor Agreement (Agreement) for the endangered red-cockaded woodpecker, (Picoides borealis) (RCW), for a period of 99 years. If approved, the Agreement would allow the Applicant to issue Certificates of Inclusion (CI) throughout the State of Florida to eligible non-Federal landowners that complete an approved Safe Harbor Management Agreement (SHMA).

We announce the opening of a 30-day comment period and request comments from the public on the Applicant's ESP application; the accompanying proposed Agreement, and the supporting Environmental Action Statement (EAS) Screening Form. All comments received, including names and addresses, will become part of the official administrative record and may be made available to the public, subject to the requirements of the Privacy Act and Freedom of Information Act. For further information and instructions on reviewing and commenting on this application, see the ADDRESSES section, below.

DATES: Written comments should be received on or before February 23, 2006.

ADDRESSES: You may obtain a copy of the information available by contacting the Service's Regional Safe Harbor Coordinator, U.S. Fish and Wildlife Service, 1875 Century Boulevard, Suite 200, Atlanta, Georgia 30345, or Field Supervisor, U.S. Fish and Wildlife Service, Ecological Services Field Office, 1601 Balboa Avenue, Panama City, Florida 32405. Alternatively, you may set up an appointment to view these documents at either location during normal business hours. Written data or comments should be submitted to the Atlanta, Georgia, Regional Office. Requests for the documentation must be in writing to be processed, and comments must be in writing to be considered. When you are requesting or reviewing the information provided in this notice, please reference “Proposed Programmatic Statewide Red-cockaded Woodpecker Safe Harbor Agreement, Florida” in any correspondence.

FOR FURTHER INFORMATION CONTACT: Mr. Richard Gooch, Regional Safe Harbor Program Coordinator at the Service's Southeast Regional Office (see ADDRESSES above), telephone (404) 679-7124; or Mr. Stan Simpkins, Ecologist, Panama City Ecological Services Field Office (see ADDRESSES above), telephone (850) 769-0552.

SUPPLEMENTARY INFORMATION: Primary threats to the RCW throughout its range all have the same basic cause: lack of suitable habitat. To help address this threat, the Service has previously entered into programmatic Safe Harbor Agreements in Georgia, Louisiana, and South Carolina. These previous agreements are similar to the Agreement that is being proposed by FFWC.

Under a Safe Harbor Agreement, participating property owners voluntarily undertake management activities on their property to enhance, restore, or maintain habitat benefiting species listed under the Act. Safe Harbor Agreements encourage private and other non-Federal property owners to implement conservation efforts for listed species by assuring property owners they will not be subjected to increased property use restrictions if their efforts attract listed species to their property or increase the numbers or distribution of listed species already on their property. Application requirements and issuance criteria for ESPs through Safe Harbor Agreements are found in 50 CFR 17.22 and 17.32.

The FFWCs proposed state-wide Agreement is designed to encourage voluntary RCW habitat restoration or enhancement activities by relieving a landowner who enters into a landowner-specific agreement (the SHMA) from any additional responsibility under the Act beyond that which exists at the time he or she enters into the program. The SHMA will identify any existing RCWs and any associated habitat (the baseline) and will describe the actions that the landowner commits to take (e.g., hardwood midstory removal, cavity provisioning, prescribed burning, etc.) or will allow to be taken to improve RCW habitat on the property, and the time period within which those actions are to be taken and maintained. A participating landowner must maintain the baseline on his/her property (i.e., any existing RCW groups and/or associated habitat), but may be allowed the opportunity to incidentally take RCWs at some point in the future if above baseline RCWs are attracted to that site by the proactive management measures undertaken by the landowner. It is important to note that the Agreement does not envision, nor will it authorize, incidental take of any pre-SHMA existing RCW group with one exception. This exception is incidental take related to a baseline shift; in this circumstance the baseline will be maintained but redrawn or shifted on that landowner's property. Among the minimization measures proposed by the Applicant are no incidental take of RCWs during the breeding season, consolidation of small, isolated RCW populations at sites capable of supporting a viable RCW population, and measures to improve current and potential habitat for the species. Further details on the topics described above are found in the aforementioned documents available for review under this notice.

The geographic scope of the Applicant's Agreement is the entire State of Florida, but the Agreement would only authorize the future incidental take of above-baseline RCW groups on lands for which a CI has been issued. Lands potentially eligible for inclusion include all privately owned lands and public lands owned by cities, counties, and municipalities, with potentially suitable RCW habitat in Florida.

The agreement is expected to attract sufficient interest among Florida landowners to generate substantial conservation benefits to the RCW on a landscape scale. FFWCs agreement was developed in an adaptive management framework to allow changes in the program based on new scientific information including, but not limited to, biological needs and management actions proven to benefit the species or its habitat.

We have made a preliminary determination that issuance of the ESP will not result in significant environmental, economic, social, historical, cultural impacts and is therefore, categorically excluded from review under the National Environmental Policy Act (NEPA) of 1969, as amended pursuant to 516 Department Manual 2, Appendix 1 and 516 Department Manual 6 Appendix 1. In addition, we have evaluated the proposed ESP under section 106 of the National Historic Preservation Act and have concluded that this Agreement will not affect cultural resources on or eligible for, the National Historic Register of Historic Places. We base our conclusions on our review of the process for protection and consideration of cultural resources included in the associated Agreement as well as the scope of the voluntary management actions identified in the Agreement. We have consulted with the Florida State Historic Preservation Officer and have received concurrence with our conclusion. We have also consulted with the appropriate Tribal Preservation Officers.

We provide this notice pursuant to section 10(c) of the Act and pursuant to implementing regulations for NEPA (40 CFR 1506.6). We will evaluate the proposed Agreement, associated documents, and comments submitted thereon to determine whether the requirements of section 10(a) of the Act and NEPA have been met. If we determine that the requirements are met, we will issue an ESP under section 10(a)(1)(A) of the Act to the Applicant in accordance with the terms of the Agreement and specific terms and conditions of the authorizing ESP. We will not make our final decision until after the end of the 30-day comment period and will fully consider all comments received during the comment period.

Dated: December 28, 2005.
Cynthia K. Dohner,
Acting Regional Director.

[FR Doc. E6-797 Filed 1-23-06; 8:45 am]

BILLING CODE 4310-55-P